DEPARTMENT OF COMMERCE

National Oceanic and Atmospheric Administration

RIN 0648-XK92

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and address of recipients.

ADDRESSES: The Letters of Confirmation and related documents are available for review upon written request or by appointment in the following office:

Permits, Conservation and Education Division, Office of Protected Resources, NMFS, 1315 East-West Highway, Room 13705, Silver Spring, MD 20910; phone (301)713-2289; fax (301)427-2521.

FOR FURTHER INFORMATION CONTACT: Office of Protected Resources, Permits Division, (301)713-2289.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by level B harassment of marine mammals. The following Letters of Confirmation were issued in Fiscal Year 2008.

File No. 10047: Issued to Robert B. Griffin, Ph.D., Mote Marine Laboratory, 1600 Ken Thompson Parkway, Sarasota, FL 34236 on October 22, 2007, for photo-identification, behavioral observations, and underwater videography of Atlantic spotted dolphins (Stenella frontalis), bottlenose dolphins (Tursiops truncatus), and rough-toothed dolphins (Steno bredanensis) in the Gulf of Mexico and waters off the Florida Keys through October 31, 2012.

File No. 10038: Issued to David Mann, Ph.D., University of South Florida, College of Marine Science, 140 7th Avenue South, St. Petersburg, FL 33701, on October 22, 2007, for vessel surveys of distribution and abundance of 22 species of cetaceans on the West Florida Shelf. Activities include photo-identification, behavioral observations, and passive acoustics and may be conducted until January 31, 2010.

File No. 10081: Issued to Natalija Lace, University of Southern Mississippi, 118 College Drive, Hattiesburg, MS 39406, on November 13, 2007, to investigate how natural features and the noise levels of habitats affect the acoustic characteristics of the signals produced by bottlenose dolphins. Activities include the use of passive acoustics in Tampa Bay, Florida through November 15, 2010.

File No. 1064-1748: Issued to National Ocean Service's Center for Coastal Environmental Health and Biomolecular Researach, 219 Fort Johnson Road, Charleston, SC [Principal Investigator: Eric Zolman] on February 8, 2008, for photo-identification and vessel surveys of bottlenose dolphins off South Carolina through March 31, 2009. The study was modified to expand the geographic location to include east-central Georgia and to add focal follows as a research tool to examine interactions between dolphins and crab pots. The amended Letter of Confirmation No. 1064-1748-01 supercedes version 1064-1748-00 issued on March 30, 2004.

File No. 13386: Issued to The Taras Oceanographic Foundation, 905 Stonewood Court, Jupiter, FL [Principal Investigator: Barbara Brunnick] on May 12, 2008, to document the abundance and distribution of bottlenose dolphins off the coast of Palm Beach County, Florida. Activities include the use of photo-identification and vessel surveys and are authorized through June 1, 2013.

File No. 13427: Issued to the Pacific Whale Foundation, 300 Ma'alaea Rd., Ste. 211, Wailuku, HI 96793 [Principal Investigator: Quincy A. Gibson, Ph.D.] on June 4, 2008, for line transect surveys and photo-identification of several non-listed cetacean species found in the deeper waters offshore of Maui County, Hawaii. The purpose of the proposed research is to gather information on the distribution, habitat use, abundance and behavior of several lesser studied, non-listed odontocetes. The activities may be conducted through June 15, 2013.

File No. 13416: Issued to Jessica Weiss, 310 West Eden St., Kill Devil Hills, NC 27948, on June 4, 2008, for the close approach, photo-identification, behavioral observations, and focal follows of bottlenose dolphins within North Carolina waters and the adjacent Atlantic Ocean. The purpose of this research is to investigate the seasonal and year-round residency of Western North Atlantic coastal or offshore bottlenose dolphins in the northern Outer Banks of North Carolina, in addition to identifying any biological and/or ecological stressors on the dolphins in the area. The activities may be conducted through May 31, 2013.

File No. 1099-1846: Issued to Jamie McKee, SAIC, 1140 Eglin Parkway, Shalimar, FL 32578 on May 12, 2006, for line transect surveys for the inshore and estuarine stocks of Atlantic bottlenose dolphins in south Georgia estuaries near the Naval Submarine Base Kings Bay. These activities may be conducted until May 31, 2011. This study was modified to authorize photo-identification of animals during surveys. The amended Letter of Confirmation No. 1099-1846-01 supercedes version 1099-1846-00, issued on June 6, 2008.

File No. 572-1869: Issued to Daniel K. Odell, Ph.D., Hubbs-SeaWorld Research Institute, 6295 Sea Harbor Drive, Orlando, FL 32821 on June 17, 2008, to conduct vessel surveys, photo-identification, behavioral observations, passive acoustic recordings, and videography of bottlenose dolphins in the Indian River Lagoon on the east-central coast of Florida; in the Key West, FL area; and in the coastal waters of Georgia. In addition, aerial surveys of bottlenose dolphins may be conducted over the Indian River Lagoon. These activities may be conducted through November 14, 2011. The study was modified to include photo-identification work in waters from Ponce Inlet to the northern border of Flagler County in Florida. The amended Letter of Confirmation No. 572-1869-01 supercedes version 572-1869-00, issued on November 14, 2006.

File No. 13525: Issued to Richard Connor, Ph.D., University of Massachusetts at Dartmouth, North Dartmouth, MA 02740 on July 25, 2008, for behavioral observations, video documentation, and photo-identification of bottlenose dolphins in Beaufort County, SC. The activities may be conducted through October 31, 2010.

File No. 13549: Issued to Moby A. Solangi, Ph.D., Institute for Marine Mammal Studies, P.O. Box 207, Gulfport, MS 39502 on August 20, 2008, for transect surveys, photo-identification, and behavioral observations of bottlenose dolphins in the estuaries of the Gulf of Mexico. Occasional aerial surveys are also authorized. The activities may be conducted through August 31, 2012.

File No. 572-1869: Issued to Daniel K. Odell, Ph.D., Hubbs-SeaWorld Research Institute, 6295 Sea Harbor Drive, Orlando, FL 32821 on August 20, 2008. The study was modified to allow aerial surveys at a minimum altitude of 152 meters (500 feet). The amended Letter of Confirmation No. 572-1869-02 supercedes version 572-1869-01, issued on June 17, 2008 (see above paragraph for File No. 572-1869 for details).

In compliance with the National Environmental Policy Act of 1969 (42 U.S.C. 4321 et seq.), a final determination was made that the activities are categorically excluded from the requirement to prepare an environmental assessment or environmental impact statement.

Dated: October 3, 2008.
P. Michael Payne,
Chief, Permits, Conservation and Education Division, Office of Protected Resources, National Marine Fisheries Service.

[FR Doc. E8-24015 Filed 10-8-08; 8:45 am]

BILLING CODE 3510-22-S